DEPARTMENT OF DEFENSE

Department of the Navy

Notice of Intent To Grant Exclusive Patent License; JFD Limited

AGENCY: Department of the Navy: DoD.

ACTION: Notice.

SUMMARY: The Department of the Navy hereby gives notice of its intent to grant to JFD Limited a revocable, non-assignable, exclusive license to practice in the United States, the Government-owned invention described in U.S. Patent No. 6,868,360, entitled “SMALL HEAD-MOUNTED COMPASS SYSTEM WITH OPTICAL DISPLAY”, issued March 15, 2005, Navy Case No. 84,835.

DATES: Anyone wishing to object to the grant of this license has fifteen (15) days from the date of this notice to file written objections along with supporting evidence, if any.

ADDRESSES: Written objections are to be filed with Naval Surface Warfare Center Panama City, 110 Vernon Ave., Code 00L, Panama City, FL 32407-7001.

FOR FURTHER INFORMATION CONTACT: Mr. James Shepherd, Patent Counsel, Naval Surface Warfare Center Panama City, 110 Vernon Ave., Panama City, FL 32407-7001, telephone 850-234-4646, fax 850-235-5497, or james.t.shepherd@navy.mil.

(Authority: 35 U.S.C. 207, 37 CFR Part 404)

Dated: February 13, 2017.
A.M. Nichols,
Lieutenant Commander, Judge Advocate General's Corps, U.S. Navy, Federal Register Liaison Officer.

[FR Doc. 2017-03266 Filed 2-17-17; 8:45 am]

BILLING CODE 3810-FF-P